DEPARTMENT OF TRANSPORTATION

Federal Aviation Administration

Public Meeting With Interested Persons To Discuss the Proposed Federal Aviation Administration Policy (Draft AC 21.101A) Establishing the Certification Basis for Changed Aeronautical Products

AGENCY: Federal Aviation Administration (DOT)

ACTION: Notice of public meetings.

SUMMARY: The Federal Aviation Administration (FAA), along with Transport Canada Civil Aviation (TCCA), and the European Aviation Safety Agency (EASA), will hold two informational meetings to discuss the interpretations, applications, and harmonization of the Title 14 of the Code of Federal Regulations (14 CFR) § 21.101, derived advisory circular (AC) 21.101, Establishing the Certification Basis of Changed Aeronautical Products (a.k.a. Change Product Rule (CPR)).

Beginning in October 2007, the FAA, TCCA, and EASA chartered an International Implementation Team (IIT) to revise the current CPR AC 21.101, by incorporating the lessons learned since the rule's inception, by improving and clarifying the guidance in Revision “A” of the CPR AC.

Meeting Dates and Locations:

Europe (EASA): September 23, 2009 in Cologne, Germany.

North America (FAA, TCCA): October 7, 2009 in Washington, DC.

The North American meeting is intended to include interested persons for both the United States of America and Canada.

If you plan to attend either or both of the meetings, please forward your preferred location(s) via the following e-mail address: AWA-AVS-CPR-IIT-Outreach@faa.gov before August 31, 2009. Specific information pertaining to the meeting locations and times will be forwarded to those who respond to the above email address as it develops.

DATES: These meetings will be held on September 23, 2009, in Cologne, Germany, and on October 7, 2009, in Washington, DC.

ADDRESSES: The addresses for the specific meetings will be provided to those individuals planning to attend at a later date.

FOR FURTHER INFORMATION CONTACT: To obtain additional details on the two meetings, please contact the following:

Federal Aviation Administration (FAA): Mr. Randall Petersen, AIR-110, Federal Aviation Administration, Certification Procedure Branch, AIR-110, 950 L'Enfant Plaza, SW., Fifth floor, Washington, DC 20024, Telephone (202) 385-6325, Fax: (202) 385-6475, E-mail: randall.petersen@faa.gov.

European Aviation Safety Agency (EASA): Mr. Jan Novák, Rulemaking Directorate, Initial Airworthiness Rulemaking Officer, European Aviation Safety Agency, Postfach 10 12 53, D-50452 Köln Germany Telephone: +49 221 89990 5015, Fax: +49 221 89990 5515, E-mail: jan.novak@easa.europa.eu.

Transport Canada Civil Aviation (TCCA): Mr. Eric Lucas, Standards Branch, AARTC, Transport Canada Civil Aviation, 330 Sparks Street, 2nd Floor, Ottawa, Ontario, Canada K1A 0N8, Telephone (613) 949-8515, Fax: (613) 952-3298, E-mail: eric.lucas@tc.gc.ca.

Issued in Washington, DC, on August 18, 2009.
Susan J. M Cabler,
Assistant Manager, Aircraft Engineering Division, Aircraft Certification Service.

[FR Doc. E9-20126 Filed 8-20-09; 8:45 am]

BILLING CODE 4910-13-P